DEPARTMENT OF LABOR

Employment and Training Administration

Workforce Investment Act, 1998

AGENCY: Employment and Training Administration.

ACTION: Notice on reallotment of Workforce Investment Act (WIA) Title I formula allotted funds for dislocated worker activities for program year (PY) 2002.

SUMMARY: Pub. L. 105-220, the Workforce Investment Act (WIA), requires the Secretary to conduct reallotment of dislocated worker formula allotted funds based on state financial reports submitted as of the end of the prior program year. This notice publishes the dislocated worker PY 2002 funds for recapture by state and the amount to be reallotted to eligible states.

EFFECTIVE DATE: This notice is effective April 2, 2003.

FOR FURTHER INFORMATION CONTACT: Ms. Grace Kilbane, Administrator, U.S. Department of Labor, Office of Workforce Investment, Employment and Training Administration, Room S-4231, 200 Constitution Avenue, NW., Washington, DC. Telephone (202) 693-3200; Fax (202) 693-3229.

SUPPLEMENTARY INFORMATION: WIA section 132(c) requires the Secretary to reallot excess unobligated dislocated worker funds based on financial reports submitted by states as of the end of the prior program year. The procedures the Secretary uses for recapture and reallotment of funds are described in WIA regulation at 20 CFR 667.150. Training and Employment Guidance Letter (TEGL) 13-01, dated March 15, 2002, advised states that reallotment of funds under WIA will occur during PY 2002 based on state obligations made in PY 2001. There were no recapture and reallotment of WIA funds in PY 2001.

Excess unobligated state funds in the amount of $2,867,639 will be recaptured from PY 2002 formula allotted funds for the dislocated worker program from four states and distributed by formula to PY 2002 dislocated worker funds for eligible states. The methodology used for the recapture/reallotment and the distribution of the changes to PY 2002 formula allotments for dislocated worker activities are attached. We will not recapture any PY 2002 funds for Adult and Youth programs because in no case do unobligated funds exceed the statutory requirement of 20 percent of state unobligated funds.

WIA section 132(c) requires the Governor to prescribe equitable procedures for making funds available from the state and local areas in the event that the state is required to make funds available for reallotment.

Signed at Washington, DC, this 6th day of February, 2003.
Grace Kilbane,
Administrator, Office of Workforce Investment.

BILLING CODE 4510-30-M

[FR Doc. 03-7889 Filed 4-1-03; 8:45 am]

BILLING CODE 4510-30-C